DEPARTMENT OF HEALTH AND HUMAN SERVICES

Administration for Children and Families

Proposed Information Collection Activity; Safe Access for Victims' Economic Security Data Collection for Safety in Child Support Program Research (New Collection)

AGENCY: Office of Child Support Enforcement, Administration for Children and Families, U.S. Department of Health and Human Services.

ACTION: Request for public comments.

SUMMARY: The Administration for Children and Families (ACF) is requesting public comments on a proposed information collection as part of the Safe Access for Victims' Economic Security (SAVES) Demonstration research on safety in the child support program. The SAVES Center, responsible for providing technical assistance and conducting evaluation for SAVES, will conduct one-time data collection activities with domestic violence (DV) survivors, advocates, and child support staff to understand their experiences and to identify barriers and promising practices related to safety in the child support system. These activities are part of ACF's efforts to improve safety in the child support program under SAVES.

DATES: Comments due April 3, 2026.

ADDRESSES: In compliance with the requirements of the Paperwork Reduction Act of 1995, ACF is soliciting public comment on the specific aspects of the information collection described above. You can obtain copies of the proposed collection of information and submit comments by emailing infocollection@acf.hhs.gov. Identify all requests by the title of the information collection.

SUPPLEMENTARY INFORMATION:

Description: SAVES is a 5-year demonstration project funded by ACF's Office of Child Support Enforcement that aims to increase safe access to child support, parenting time, and establishment of parentage services for survivors of DV.

The project was awarded in September 2022 to child support programs in 12 states and one tribal jurisdiction and is now entering year four. It aims to support grant recipients in implementing comprehensive domestic violence safety policies, procedures, and outreach strategies to improve access to child support and parenting time services for parents who have not engaged with the child support program due to safety concerns. The overarching goal is to ensure that DV survivors who need child support services can access them safely.

As part of the research and evaluation component for SAVES, the SAVES Center is conducting a series of data collection efforts to understand the needs of DV survivors, the perspectives of DV advocates, and the implementation experiences of child support professionals at the 13 demonstration sites.

The SAVES Center proposes collecting new information to help achieve the project's goals of increasing safety in the child support program. Data collection for each instrument will occur once in year 4 of SAVES. Each respondent will respond to one instrument in year 4 and all respondents will only provide one response to one instrument. The proposed information collection will occur through the following activities:

SAVES Mixed-Methods Information Collection with DV Survivors: This includes in-depth qualitative interviews (Instrument 1: SAVES Qualitative Interviews with DV Survivors) and a quantitative online survey (Instrument 2: SAVES Quantitative Survey with DV Survivors) with DV survivors to explore their experiences with and perceptions of the child support program. The goal is to understand how safety concerns—such as the risk of re-engagement with an abusive partner, fear of retaliation, concerns about personal information being shared, or negative experiences with legal or court processes—affect survivors' decisions to engage with or avoid the child support system. By capturing both individual- and system-level barriers and facilitators, this data collection will provide critical insights for DV advocates, researchers, and child support agencies seeking to make the child support program more accessible and responsive to survivors' safety needs.

SAVES Quantitative Survey with DV Advocates: This activity involves a quantitative online survey (Instrument 3: SAVES Quantitative Survey with DV Advocates) with DV advocates to gather insights about the challenges and support needs of those assisting survivors who are navigating the child support system. The survey aims to understand where and how safety concerns arise for survivors—such as during court proceedings, sharing information with abusive partners, or pressure to engage with systems—that may not feel safe. It also explores how advocates assess and mitigate those risks, coordinate with child support agencies and identify gaps in policy or practice that affect survivors' safety. Findings will inform efforts to strengthen cross-agency collaboration and ensure that child support processes better align with trauma-informed, survivor-centered practices.

SAVES Qualitative Data Collection with Child Support Staff and Clients at Demonstration Sites: This component includes focus groups with child support staff (Instrument 4: SAVES Focus Groups with Child Support Staff at Demonstration Sites) and one-on-one interviews with clients (Instrument 5: SAVES Qualitative Interviews with Clients Receiving Safety-Focused Intervention Services at Demonstration Sites) at the 13 SAVES demonstration sites. These instruments are designed to assess how safety-focused child support interventions—such as enhanced DV screening and assessment, specialized staff, modifications to court service, parenting time, and paternity establishment—are being implemented and experienced. For child support staff, the focus is on understanding how these practices are integrated into daily operations, what challenges they face, and how they perceive the impact on survivor safety. For survivor clients, interviews aim to capture how safety interventions affected their ability to safely access services, make informed decisions, and maintain their well-being. Together, this data will help identify promising practices and inform continued improvement of survivor-centered approaches within the child support program.

Respondents:

• DV survivors who are parents and either have engaged with child support program or are eligible but have not engaged (Instruments 1 and 2).

• DV advocates who work with DV survivors accessing child support (Instrument 3).

• Child support staff at the 13 SAVES demonstration sites, who have been involved with designing and/or implementing safety-focused interventions (Instrument 4).

• DV survivors who are clients at one of the 13 SAVES demonstration sites and have been receiving safety-focused interventions (Instrument 5).

All instruments are to be completed one time in year 4. Respondents will not be asked to complete more than one instrument.

Annual Burden Estimates
Instrument | Number of respondents (total over request period) | Number of responses per respondent (total over request period) | Average burden per response (in hours) | Total burden (in hours)
Instrument 1: SAVES Qualitative Interviews with DV Survivors—Screener Only | 100 | 1 | .083 | 8.3
Instrument 1: SAVES Qualitative Interviews with DV Survivors—Screener & Interview | 100 | 1 | 1 | 100
Instrument 2: SAVES Quantitative Survey with DV Survivors—Screener Only | 2,000 | 1 | 0.083 | 166
Instrument 2: SAVES Quantitative Survey with DV Survivors—Screener & Survey | 2,000 | 1 | 0.33 | 660
Instrument 3: SAVES Quantitative Survey with DV Advocates | 1,200 | 1 | 0.33 | 396
Instrument 4: SAVES Focus Groups with Child Support Staff at Demonstration Sites | 65 | 1 | 1.5 | 98
Instrument 5: SAVES Qualitative Interviews with Clients Receiving Safety-Focused Intervention Services at Demonstration Sites | 65 | 1 | 0.75 | 49

Estimated Total Annual Burden Hours: 1,477.3.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 1315. (https://www.govinfo.gov/content/pkg/USCODE-2023-title42/pdf/USCODE-2023-title42-chap7-subchapXI-partA-sec1315.pdf).

Mary C. Jones,
ACF/OPRE Certifying Officer.

[FR Doc. 2026-01936 Filed 1-30-26; 8:45 am]

BILLING CODE 4184-41-P